DEPARTMENT OF THE INTERIOR

Bureau of Land Management

[AK-932-1430-ET; AA-58198]

Public Land Order No. 7607; Revocation of Secretarial Order Dated January 24, 1941, as Modified; Alaska

AGENCY: Bureau of Land Management, Interior.

ACTION: Public land order.

SUMMARY: This order revokes in its entirety a Secretarial Order as it affects 14.12 acres of public land withdrawn for Air Navigation Site No. 151 at Cache Creek, Alaska. The land is no longer needed for the purpose for which it was withdrawn.

EFFECTIVE DATE: August 9, 2004.

FOR FURTHER INFORMATION CONTACT: Robbie J. Havens, Bureau of Land Management, Alaska State Office, 222 W. 7th Avenue, No. 13, Anchorage, Alaska 99513-7599, 907-271-5477.

SUPPLEMENTARY INFORMATION: The location of Air Navigation Site No. 151 is within a Mineral Survey that has been conveyed out of Federal ownership.

Order

By virtue of the authority vested in the Secretary of the Interior by section 204 of the Federal Land Policy and Management Act of 1976, 43 U.S.C. 1714 (2000) it is ordered as follows:

The Secretarial Order dated January 24, 1941, as modified, which withdrew public land for air navigation purposes, is hereby revoked in its entirety as it affects the following described land:

Seward Meridian

U.S. Survey No. 9708, located within T. 28 N., R. 9 W.

The area described contains 14.12 acres.

Dated: July 7, 2004.
Rebecca W. Watson,
Assistant Secretary—Land and Minerals Management.

[FR Doc. 04-18134 Filed 8-6-04; 8:45 am]

BILLING CODE 4310-JA-P